DEPARTMENT OF HEALTH AND HUMAN SERVICES

Centers for Disease Control and Prevention

[30Day-16-16CP]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Community-based tick control for the prevention of Rocky Mountain spotted fever in Hermosillo, Mexico—New—National Center for Emerging and Zoonotic Diseases (NCEZID), Centers for Disease Control and Prevention (CDC).

Background and Brief Description

The Centers for Disease Control and Prevention (CDC) Rickettsial Zoonoses Branch (RZB) requests approval of a public health intervention assessment tool to demonstrate the efficacy and impact of public health research related to the prevention of Rocky Mountain spotted fever [RMSF] in Hermosillo, Mexico. These activities include monitoring cases, conducting tick control interventions, and performing participant surveys to assess the knowledge, attitudes, and practices relating to tick control and prevention.

The information collection for which approval is sought is in accordance with RZB's mission to reduce morbidity and mortality of rickettsial diseases and decrease the burden of disease through control and prevention methods. Authorizing Legislation comes from Section 301 of the Public Health Service Act (42 U.S.C. 241).

Approval of this data collection tool will allow RZB to collect information related to risk of RMSF to improve and inform prevention activities. Successful execution of RZB's public health mission requires the use of data collection activities in collaboration with multiple local and international partners. RZB proposes the use of pre/posttests to evaluate the changes in knowledge, attitudes, and practices relating to tick control as well as perceived impact of the intervention project. The project will collect basic household information to document consent to participate. Data collection will be conducted in-person. Data will be recorded on paper forms and then entered into an electronic database.

RZB estimates involvement of 1,300 respondents and a maximum of 701 hours of burden for research activities each year. The collected information will not impose a cost burden on the respondents beyond that associated with their time to provide the required data.

Estimated Annualized Burden Hours
Type of respondents | Form name | Number of respondents | Number of responses per respondent | Average burden per response (in hours) | Total burden (in hours)
General Public | Registration | 500 | 1 | 20/60 | 167
General Public | KAP survey (pre- and post-intervention) | 800 | 2 | 20/60 | 534

Leroy A. Richardson,
Chief, Information Collection Review Office, Office of Scientific Integrity, Office of the Associate Director for Science, Office of the Director, Centers for Disease Control and Prevention.

[FR Doc. 2016-00867 Filed 1-15-16; 8:45 am]

BILLING CODE 4163-18-P